DEPARTMENT OF HOUSING AND URBAN DEVELOPMENT

[Docket No. FR-5684-N-04]

60-Day Notice of Proposed Information Collection: Notice of Proposed Information Collection for Disaster Recovery Grant Reporting System; Public Comment Request

AGENCY: Office of the Assistant Secretary for Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: August 26, 2013.

ADDRESSES: Interested persons are invited to submit comments regarding this proposal. Comments should refer to the proposal by name and/or OMB Control Number and should be sent to: LaRuth Harper, Department of Housing and Urban Development, 451 7th Street SW., Room 7233, Washington, DC 20410.

Persons with hearing or speech impairments may access this number through TTY by calling the toll-free Federal Relay Service at (800) 877-8339.

FOR FURTHER INFORMATION CONTACT: Stanley Gimont, Director, Office of Block Grant Assistance at (202) 708-3587. This is not a toll-free number. Persons with hearing or speech impairments may access this number through TTY by calling the toll-free Federal Relay Service at (800) 877-8339.

SUPPLEMENTARY INFORMATION: The Department will submit the proposed information collection to OMB for review, as required by the Paperwork Reduction Act of 1995 (44 U.S.C. Chapter 35 as Amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

A. Overview of Information Collection

Title of Information Collection: Disaster Recovery Grant Reporting System—Revision to add Hurricane Sandy and other Disaster Grants.

OMB Approval Number: 2506-0165.

Type of Request: Revision of a currently approved collection.

Form Number: SF-424 Application for Federal Assistance.

Description of the need for the information and proposed use: The Disaster Recovery Grant Reporting (DRGR) System is a grants management system used by the Office of Community Planning and Development to monitor special appropriation grants under the Community Development Block Grant program. This collection pertains to Community Development Block Grant Disaster Recovery (CDBG-DR) and Neighborhood Stabilization Program (NSP) grant appropriations.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

Respondents (i.e. affected public): DRGR is used to monitor CDBG-DR, NSP, and NSP-TA grants, as well as several programs that do not fall under the Office of Block Grant Assistance. Separate information collections have been submitted and approved for these programs. CDBG-DR and NSP grant funds are made available to states and units of general local government, Indian tribes, and insular areas, unless provided otherwise by supplemental appropriations statute. NSP-TA grant funds are awarded on a competitive basis and are open to state and local governments, as well as non-profit groups and consortia that may include for-profit entities.

Estimated Number of Respondents: Community Development Block Grant Disaster Recovery (CDBG-DR) Grants: The system has approximately 72 open CDBG disaster recovery grants in DRGR. HUD estimates an additional 40 grants as a result of the recent supplemental appropriation for Hurricane Sandy relief.

One-time only submissions: The one-time only pre- and post-award submissions for the estimated 40 new DRSI grants resulting from Hurricane Sandy include standard forms, DRGR Action Plan, and required financial control documentation. Total hours are estimated at 505 at a cost of $12,164.

Recurring submissions: Recurring submissions include quarterly progress reports and voucher submissions. For average-sized grants, the Department estimates 13 minutes needed per voucher. CDBG-DR grantees process approximately 19 vouchers per year. This requires a record keeping and reporting burden of approximately 4 hours per grantee, per year. Larger CDBG-DR grantees take approximately 44 minutes for each voucher and submit an average of 146 vouchers per year, resulting in approximately 106 burden hours per year, per grantee. Therefore, all CDBG-DR grantees collectively spend an estimated 2,721 hours submitting vouchers in the DRGR system for a total estimated annual voucher submission cost of $65,575. Average-sized grantees spend an estimated 9 hours on each QPR, for a total of 3,240 hours. Large grantees spend an estimated 57 hours per QPR for a total of 5,016 hours. Therefore, all grantees collectively spend an estimated 8,256 hours per year submitting QPR data in DRGR. Total annual QPR submissions cost an estimated $198,970.

Neighborhood Stabilization Program Grants: For the 577 active NSP grants in the DRGR system, the Department estimates 11 minutes per voucher submission. NSP grantees process approximately 34 vouchers per year. This requires a record keeping and reporting burden of approximately 3,899 hours for an annual voucher submission cost of $93,970. NSP grantees spend an estimated 4 hours per QPR submission, for a total of 9,232 hours for a total annual QPR submission costs $222,491.

Neighborhood Stabilization Program 3—Technical Assistance Grants: The DRGR system currently has 10 open NSP3-TA grants. Historical data on voucher and QPR submissions for technical assistance grants were extremely limited at the time this collection was being assembled. Therefore, the times used to calculate NSP grant cost burden will be applied to NSP3-TA grant cost burden. For 10 average-sized grants, the Department estimates 11 minutes per voucher. Grantees process approximately 38 vouchers per year. Total burden hours for all grantees over the course of the year is estimated at 380, for a total annual submission cost of $1,648.

10 average-sized grantees spend approximately 4 hours submitting each QPR, for a total of 160 hours over the course of a year. Total annual QPR submission costs approximately $3,856.

Status of the proposed information collection: This notice precedes a continuation of the existing burden hour request.

Authority: The Paperwork Reduction Act of 1995, 44 U.S.C. Chapter 35, as amended.

Dated: June 20, 2013.
Mark Johnston,
Deputy Assistant Secretary for Special Needs Programs.

[FR Doc. 2013-15305 Filed 6-25-13; 8:45 am]

BILLING CODE 4210-67-P